DEPARTMENT OF ENERGY

Federal Energy Regulatory Commission

[Docket No. RP03-245-000]

Kinder Morgan Interstate Gas Transmission LLC; Notice of Tariff Filing

February 4, 2003.

Take notice that on January 29, 2003., Kinder Morgan Interstate Gas Transmission LLC (KMIGT) tendered for filing to become part of KMIGT's FERC Gas Tariff, Fourth Revised Volume Nos. 1-A and 1-B, the tariff sheets listed in Appendix A to the filing, to be effective March 1, 2003..

KMIGT states that it is making this filing pursuant to Section 4 of the Natural Gas Act, 15 U.S.C. 717c, and Section 154.202 of the regulations of the Federal Energy Regulatory Commission (Commission) (18 CFR 54.202). KMIGT submits these tariff sheets to: (1) Implement a new interruptible storage-based park and loan (S-PALS) service under Rate Schedule S-PALS; and, (2) revise certain currently effective tariff sheets to incorporate the S-PALS service.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 10, 2003.

Magalie R. Salas,
Secretary.

[FR Doc. 03-3150 Filed 2-7-03; 8:45 am]

BILLING CODE 6717-01-P